DEPARTMENT OF HOUSING AND URBAN DEVELOPMENT

[Docket No. FR-5486-N-15]

Notice of Proposed Information Collection for Public Comment On: Participation Agreement, Follow-up Survey, and Key Informant Interview Guide for The Impact of Housing and Services Interventions on Homeless Families

AGENCY: Office of Policy Development and Research, HUD.

ACTION: Notice of proposed information collection.

SUMMARY: The proposed information collection requirement described below will be submitted to the Office of Management and Budget (OMB) for review, as required by the Paperwork Reduction Act of 1995, Public Law 104-13 (44 U.S.C. 3506(c)(2)(A)). The Department is soliciting public comments on the subject proposal.

DATES: Comments Due Date: August 19, 2011.

ADDRESSES: Interested persons are invited to submit comments regarding this proposal. Comments should refer to the proposal by name and/or OMB Control Number and should be sent to: Reports Liaison Officer, Office of Policy Development and Research, Department of Housing and Urban Development, 451 7th Street, SW., Room 8234, Washington, DC 20410.

FOR FURTHER INFORMATION CONTACT: Elizabeth Rudd at (202) 402-7607 (this is not a toll-free number). Copies of the proposed forms and other available documents submitted to OMB may be obtained from Ms. Rudd.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce burden, (e.g., permitting electronic submission of responses).

This Notice also lists the following information:

Title of Proposal: The Impact of Housing and Services Interventions on Homeless Families.

OMB Control Number: Pending.

Description of the need for the information and proposed use: The Participant Follow-up Survey Instruments, the Participation Agreement, and the Key Informant Interviews are necessary to conduct the study, The Impact of Housing and Services Interventions on Homeless Families.

The Senate Report 109-109 for the FY 2006 Transportation, Treasury, the Judiciary, Housing and Urban Development and Related Agencies Appropriations Bill directed the U.S. Department of Housing and Urban Development (HUD) to “undertake research to ascertain the impact of various service and housing interventions in ending homelessness for families.” In response to this directive, HUD awarded an Indefinite Quantity Contract (IQC) to Abt Associates, Inc. in September 2008 to conduct a study entitled The Impact of Housing and Services Interventions on Homeless Families. The study will compare several combinations of housing assistance and services in a multi-site experiment, to determine which interventions work best to promote housing stability, family preservation, child well-being, adult well-being, and self-sufficiency. The study has begun enrolling families and administering the baseline survey. The follow-up survey enables collection of data on the outcomes of interest from families who have participated in the study; the survey will permit the research team to track participants and measure the outcomes of participants 18 months after assignment to one of the study's interventions. Interviews with key informants will enable the study team to collect cost information so that it is possible to assess the costs of the interventions and services provided to homeless families.

Members of affected public: Households.

Estimation of the total number of hours needed to prepare the information collection including number of respondents, frequency of response, and hours of response:

Estimated Respondent Burden Hours and Costs
Form | Respondent sample | Number of respondents | Average time to complete (minimum, maximum) in minutes | Frequency | Total burden (hours)
Follow-up Survey | All enrolled families (N = 2,550) | 2,550 | 60 (50-70) | 1 | 2,550
Key Informant Interviews | Staff from programs providing services in the studied interventions | 126 | 120 (100-150) | 1 | 252
TOTAL Burden Hours |  |  |  |  | 2,802

Respondent's Obligation: Voluntary.

Status of the proposed information collection: Pending OMB approval.

Authority: Title 13 U.S.C. Section 9(a), and Title 12, U.S.C., Section 1701z-1 et seq.

Dated: June 13, 2011.
Raphael W. Bostic,
Assistant Secretary for Policy Development and Research.

[FR Doc. 2011-15270 Filed 6-17-11; 8:45 am]

BILLING CODE 4210-67-P